NUCLEAR REGULATORY COMMISSION

Sunshine Federal Register Notice

Agency Holding the Meetings: Nuclear Regulatory Commission.

DATES: Week of January 4, 2010.

Place: Commissioners' Conference Room, 11555 Rockville Pike, Rockville, Maryland.

Status: Public and Closed.

Additional Items to be Considered:

Week of January 4, 2010

Thursday, January 7, 2010

12:15 p.m. Affirmation Session (Public Meeting) (Tentative).

a. PPL Bell Bend, LLC (Combined License Application for Bell Bend Nuclear Power Plant), LBP-09-18 (Ruling on Standing and Contention Admissibility) (Tentative).

b. Shieldalloy Metallurgical Corp. (License Amendment Request for Decommissioning the Newfield Site), Shieldalloy's Amended Motion for Stay Pending Judicial Review of Commission Action Transferring Regulatory Authority Over Newfield, New Jersey Site to the State of New Jersey (Oct. 14, 2009) (Tentative).

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: December 11, 2009.
Kenneth R. Hart,
Office of the Secretary.

[FR Doc. E9-30012 Filed 12-14-09; 4:15 pm]

BILLING CODE 7590-01-P